DEPARTMENT OF LABOR

Employment and Training Administration

ETA-9000 Report on Internal Fraud Activities; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration, Office of Workforce Security is soliciting comments concerning the proposed extension of the collection for the ETA 9000 Report on Internal Fraud Activities.

A copy of the proposed information collection request (ICR) can be obtained by contacting the office listed below in the ADDRESSES section of this notice.

DATES: Written comments must be submitted to the office listed in the addressee's section below on or before February 28, 2005.

ADDRESSES: Diann Lowery, U.S. Department of Labor, Employment and Training Administration, Room S-4231, 200 Constitution Avenue, NW., Washington, DC 20210, Phone: 202-693-3210, Fax: 202-693-3229, e-mail: lowery.diann@dol.gov.

SUPPLEMENTARY INFORMATION:

I. Background

The ETA 9000 is the only data source available on instances of internal fraud activities within the Unemployment Insurance (UI) program and on the results of safeguards that have been implemented to deter and detect instances of internal fraud. The report categorizes the major areas susceptible to internal (employee) fraud and provides actual and “estimated” (predictability or cost avoidance measures) workload. The information from this report has been used and will be used to review Internal Security (IS) operations and obtain information on composite shifting patterns of nationwide activity and effectiveness in the area of internal fraud identification and prevention. The Employment and Training Administration has used this report to assess the overall adequacy of IS procedures in State Workforce Agencies (SWA) UI program administration.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Continued collection of the ETA-9000 data will provide for a comprehensive evaluation of the UI IS program. The data are collected annually, and an analysis of the data received is formulated into a report summarizing the internal fraud cases uncovered by the 53 SWAs.

Type of Review: Extension without change.

Title: ETA 9000, Report on Internal Fraud Activities.

OMB Number: 1205-0187.

Agency Number: ETA 9000.

Recordkeeping: Respondent is expected to maintain data which support the reported data for three years.

Affected Public: 53 State governments.

Estimated Total Burden Hours: 53 States x 1 report x 3 hours = 159 hours.

Total Burden Cost (operating/maintaining): $0.

Comments submitted in response to this comment request will be summarized and/or included in the request for Office of Management and Budget approval of the information collection request; they will also become a matter of public record.

Dated: December 22, 2004.
Cheryl Atkinson,
Administrator, Office of Workforce Security.

[FR Doc. E4-3901 Filed 12-29-04; 8:45 am]

BILLING CODE 4510-30-P